DEPARTMENT OF ENERGY

Federal Energy Regulatory Commission

[Docket No. RP01-445-002]

CMS Trunkline LNG Company, LLC; Notice of Compliance Filing

December 6, 2001.

Take notice that on November 30, 2001, CMS Trunkline LNG Company, LLC (TLNG) tendered for filing as part of its FERC Gas Tariff, First Revised Volume No. 1-A, the following revised tariff sheets to be effective January 1, 2002.

First Revised Sheet No. 2

First Revised Sheet No. 5

First Revised Sheet No. 52

Original Sheet No. 126

Original Sheet No. 127

Sheet Nos. 128-149

TLNG states that the purpose of this filing is to implement the terms of the August 1, 2001 Stipulation and Agreement in Docket Nos. RP01-445-000 and CP97-26-000 [Not Consolidated] (Settlement) which was approved by the Commission's Order Approving Settlement dated October 11, 2001. Specifically, the revised tariff sheets included herein reflect Settlement rates and the Settlement provision established in new Section 22 of the General Terms and Conditions.

TLNG states that a copy of this filing is available for public inspection during regular business hours at TLNG's office at 5444 Westheimer Road, Houston, Texas 77056-5306. In addition, copies of this filing have been mailed to all affected customers, interested state commissions and parties to this proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-30713 Filed 12-11-01; 8:45 am]

BILLING CODE 6717-01-P